DEPARTMENT OF VETERANS AFFAIRS

Research and Development Cooperative Studies Evaluation Committee; Notice of Meeting

The Department of Veterans Affairs (VA) gives notice under Public Law 92-463 (Federal Advisory Committee Act) that a meeting of the Research and Development, Cooperative Studies Evaluation Committee will be held at the Crystal City Marriott, 1999 Jefferson Davis Highway, Arlington, VA 22202, on October 3, 2002. The session is scheduled to begin at 8 a.m. and end at 5 p.m. The three new studies submitted for review are: Intensive vs Conventional Renal Support in Acute Renal Failure, Perioperative B—Adrenergic Receptor Blockage in Patients Undergoing Major Noncardiac Surgery, Anabolic Steroid Therapy on Pressure Ulcer Healing in Persons with SCI. In addition to the three new studies there will be one resubmission: Diiodothyroproprionic Acid, a Thyroid Analog to Treat Heart Failure and one progress review: Clinical Outcomes Utilizing Revascularization and Aggressive Drug Evaluation.

The Committee advises the Chief Research and Development Officer through the Director of the Cooperative Studies Program on the relevance and feasibility of the studies, the adequacy of the protocols, and the scientific validity and propriety of technical details of proposed research.

The meeting will be open to the public from 8 a.m. to 8:30 a.m. to discuss general status of the program. Those who plan to attend should contact Ms. Denise Shorter, Coordinator, Department of Veterans Affairs, Washington, DC at (202) 565-7016.

The meeting will be closed from 8:30 a.m. to 5 p.m. This portion of the meeting involves consideration of specific proposals in accordance with provisions set forth in section 10(d) of Public Law 92-463, as amended by sections 5(c) of Public Law 94-409, and 5 U.S.C. 552b(c)(6). During the closed session of the meeting, discussions and recommendations will address qualifications of study personnel, critiques of research proposals, and similar documents, and the medical records of patients who are study subjects, the disclosure of which would constitute a clearly unwarranted invasion of personnel privacy.

By Direction of the Secretary.
Dated: August 30, 2002.
Nora E. Egan,
Committee Management Officer.

[FR Doc. 02-23065 Filed 9-10-02; 8:45 am]

BILLING CODE 8320-01-M